DEPARTMENT OF TRANSPORTATION

Federal Highway Administration

Environmental Impact Statement: Forsyth County, NC

AGENCY: Federal Highway Administration (FHWA), DOT.

ACTION: Revised notice of intent.

SUMMARY: The FHWA is issuing this notice to advise the public that a supplemental final environmental impact statement on the Western Section of the Northern Beltway and a supplemental draft environmental impact statement on the Eastern Section and Eastern Section Extension of the Winston-Salem Northern Beltway will be prepared as one document to address the impacts of the consolidated proposed Winston-Salem Northern Beltway projects in Forsyth County, North Carolina.

FOR FURTHER INFORMATION CONTACT: Ms. Emily Lawton, Operations Engineer, Federal Highway Administration, 310 New Bern Avenue, Suite 410, Raleigh, North Carolina 27601, Telephone: (919) 856-4350.

SUPPLEMENTARY INFORMATION: The FHWA, in cooperation with the North Carolina Department of Transportation (NCDOT), will prepare, as one document and under one cover, a supplemental final environmental impact statement on the Western Section of the Northern Beltway and a supplemental draft environmental impact statement on the Eastern Section and Eastern Section Extension of the Northern Beltway of Winston-Salem in Forsyth County. The document will address the impacts that all sections of the Northern Beltway will have on the environment. Public comments will be addressed in a subsequent environmental document that will also address any changes to the Western Section and the Eastern Section and Eastern Section Extension of the Northern Beltway, prepared as a single document. The proposed action would be the construction of a multi-lane divided, controlled access highway on new location from US 158 southwest of Winston-Salem to US 311 southeast of Winston-Salem. A Final Environmental Impact Statement on the Western Section, the portion from US 158 southwest of Winston-Salem to US 52 northwest of Winston-Salem (FHWA-NC-EIS-92-06-F), was approved by FHWA on 14 March 1996. A Draft Environmental Impact Statement on the Eastern Section, the portion of the facility from US 52 northwest of Winston-Salem to US 421 east of Winston-Salem (FHWA-NC-EIS-95-04-D), was approved by FHWA on 14 September 1995.

Alternatives under consideration include: (1) The “no-build”, (2) improving existing facilities, (3) transportation demand management and transportation system management alternatives; (4) mass transit alternatives; and (5) a controlled access highway on new location.

Letters describing the proposed action and soliciting comments have been sent to appropriate Federal, State, and local agencies. Public meetings and meetings with local officials and neighborhood groups have been held in the study area. A public hearing will also be held. Information on the time and place of the public hearing will be provided in the local news media. The supplemental final environmental impact statement/supplemental draft environmental impact statement will be available for public and agency review and comment at the time of the hearing.

To ensure that the full range of issues related to the proposed action are addressed and all significant issues are identified, comments and suggestions are invited from all interested parties. Comments and questions concerning the proposed action should be directed to the FHWA at the address provided above.

(Catalog of Federal Domestic Assistance Program Number 20.205, Highway Research Planning and Construction. The regulations implementing Executive Order 12372 regarding intergovernmental consultation on Federal programs and activities apply to this program)
Dated: September 1, 2004.
Emily O. Lawton,
Operations Engineer, Raleigh, North Carolina.

[FR Doc. 04-20594 Filed 9-10-04; 8:45 am]

BILLING CODE 4910-22-M